COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List previously furnished by nonprofit agencies employing persons who are blind or have other severe disabilities.

DATES: Date deleted from the Procurement List: July 1, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Deletions

On 4/27/2018 (83 FR 82), the Committee for Purchase From People Who Are Blind or Severely Disabled published notice of proposed deletions from the Procurement List.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Products

NSN(s)—Product Name(s):

8415-01-475-4554—Drawers, Cold Weather Knitted/Terry, ECWCS, Army, Unisex, Long, Brown, XXLXXL

8415-01-475-4561—Drawers, Cold Weather Knitted/Terry, ECWCS, Army, Unisex, Long, Brown, XXXL

8415-00-0DR-W656—Drawers, Cold Weather, Army, Unisex, Long, Brown, Special Measurement

Mandatory Sources of Supply: Four Rivers Resource Services, Inc., Linton, IN; New Horizons Rehabilitation Services, Inc., Auburn Hills, MI; Peckham Vocational Industries, Inc., Lansing, MI; Casco Area Workshop, Inc., Harrisonville, MO

NSN(s)—Product Name(s):

8415-01-227-9542—Drawers, Cold Weather, Knitted/Terry, ECWCS, Army, Unisex, Ankle Length, Brown, XS

8415-01-227-9543—Drawers, Cold Weather, Knitted/Terry, ECWCS, Army, Unisex, Ankle Length, Brown, S

8415-01-227-9544—Drawers, Cold Weather, Knitted/Terry, ECWCS, Army, Unisex, Ankle Length, Brown, M

8415-01-227-9545—Drawers, Cold Weather, Knitted/Terry, ECWCS, Army, Unisex, Ankle Length, Brown, L

8415-01-227-9546—Drawers, Cold Weather, Knitted/Terry, ECWCS, Army, Unisex, Ankle Length, Brown, XL

Mandatory Sources of Supply: Southeastern Kentucky Rehabilitation Industries, Inc., Corbin, KY New Horizons Rehabilitation Services, Inc., Auburn Hills, MI; Four Rivers Resource Services, Inc., Linton, IN; Peckham Vocational Industries, Inc., Lansing, MI; Casco Area Workshop, Inc., Harrisonville, MO

NSN(s)—Product Name(s):

8415-01-327-4825—Cover, Helmet, Parachutists, Army, Desert Camouflage, Medium/Large

8415-01-327-4826—Cover, Helmet, Parachutists, Army, Desert Camouflage, X Large

Mandatory Sources of Supply: Chautauqua County Chapter, NYSARC, Jamestown, NY; Mount Rogers Community Services Board, Wytheville, VA

NSN(s)—Product Name(s):

8415-01-103-1350—Cover, Helmet, Parachutist, Army, Desert Camouflage, ML

Mandatory Source of Supply: North Bay Rehabilitation Services, Inc., Rohnert Park, CA

NSN(s)—Product Name(s):

8415-01-525-6673—Cover, Fits over Combat Helmet, PASGT, Army, Desert Camouflage

8415-01-525-6685—Cover, Fits over Combat Helmet, PASGT, Army, Desert Camouflage

8415-00-926-5113—Coverall, Industrial, Safety, Lint-free, Army, Long Sleeved, Tan, Large

8415-00-939-7879—Coverall, Industrial, Safety, Lint-free, Army, Long Sleeved, Tan, X Small

8415-00-939-7880—Coverall, Industrial, Safety, Lint-free, Army, Long Sleeved, Tan, S

8415-00-939-7881—Coverall, Industrial, Safety, Lint-free, Army, Long Sleeved, Tan, M

8415-00-939-7882—Coverall, Industrial, Safety, Lint-free, Army, Long Sleeved, Tan, X Large

Mandatory Source of Supply: Human Technologies Corporation, Utica, NY

The following information is applicable to all products listed above.

Contracting Activity: Defense Logistics Agency Troop Support

Amy Jensen,
Director, Business Operations.

[FR Doc. 2018-11830 Filed 6-1-18; 8:45 am]

BILLING CODE 6353-01-P